DEPARTMENT OF LABOR

Employment and Training Administration

[NAFTA-4710]

Textron Fastening Systems, Automotive Solutions Group, Xact Products Division, Brooklyn, MI; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2273), an investigation was initiated on April 3, 2001 in response to a petition filed by the company on behalf of workers at Textron Fastening Systems, Automotive Solutions Group, Xact Products Division, Brooklyn, Michigan.

The petitioner has requested that the petition be withdrawn. Consequently, further investigation in this case would serve no purpose, and the investigation has been terminated.

Signed in Washington, DC this 1st day of July, 2002.
Linda G. Poole,
Certifying Officer, Division of Trade Adjustment Assistance.

[FR Doc. 02-18074 Filed 7-17-02; 8:45 am]

BILLING CODE 4510-30-P